NUCLEAR REGULATORY COMMISSION

[Docket No. 72-1050; NRC-2016-0231]

Waste Control Specialists LLC's Consolidated Interim Spent Fuel Storage Facility Project

AGENCY: Nuclear Regulatory Commission.

ACTION: Public scoping period end date; public meetings and request for comments.

SUMMARY: The U.S. Nuclear Regulatory Commission (NRC) received a license application from Waste Control Specialists LLC (WCS) by letter dated April 28, 2016, as supplemented on July 20, August 19, August 31, September 27, October 7, November 16, December 16, and December 22, 2016, respectively. By this application, WCS is requesting authorization to construct and operate a Consolidated Interim Storage Facility (CISF) for spent nuclear fuel at WCS's facility in Andrews County, Texas. The NRC is preparing an environmental impact statement (EIS) to document the potential environmental impacts from the proposed action. As part of the EIS development process, the NRC is seeking comments on the scope of its environmental review and is holding public meetings to aid in this effort.

DATES: The scoping period began on November 14, 2016, and ends on March 13, 2017. Comments received after these dates will be considered if it is practical to do so but assurance of consideration cannot be given to comments received after this date.

ADDRESSES: Please refer to Docket ID NRC-2016-0231 when providing scoping comments or contacting the NRC about the availability of information regarding this document. You may submit scoping comments by the following methods:

• Federal Rulemaking Web site: Go to http://www.regulations.gov and search for Docket ID NRC-2016-0231. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

Comments must be submitted by March 13, 2017, to ensure consideration. For additional direction on accessing information and submitting comments, see “Obtaining Information and Submitting Comments” in the SUPPLEMENTARY INFORMATION section of this document.

FOR FURTHER INFORMATION CONTACT: James Park, Office of Nuclear Material Safety and Safeguards, U.S. Nuclear Regulatory Commission, Washington DC, 20555-0001; telephone: 301-415-6954; email: James.Park@nrc.gov.

SUPPLEMENTARY INFORMATION:

I. Obtaining Information and Submitting Comments

A. Obtaining Information

Please refer to Docket ID NRC-2016-0231 when contacting the NRC about the availability of information regarding this document. You may obtain publicly-available information related to this action by the following methods:

• Federal Rulemaking Web site: Go to http://www.regulations.gov and search for Docket ID NRC-2016-0231.

• NRC's Agencywide Documents Access and Management System (ADAMS): You may obtain publicly-available documents online in the ADAMS Public Documents collection at http://www.nrc.gov/reading-rm/adams.html. To begin the search, select “ADAMS Public Documents” and then “Begin Web-based ADAMS Search.” For problems with ADAMS, please contact the NRC's Public Document Room (PDR) reference staff at 1-800-397-4209, 301-415-4737, or by email to: pdr.resource@nrc.gov. For the convenience of the reader, instructions about obtaining materials referenced in this document are provided in a table in the section of this notice entitled “Availability of Documents.”

• NRC'S PDR: You may examine and purchase copies of public documents at the NRC's PDR, Room O1-F21, One White Flint North, 11555 Rockville Pike Rockville, Maryland 20852.

• Project Web page: Information related to the WCS CISF project can be accessed on the NRC's WCS CISF Web page at: https://www.nrc.gov/waste/spent-fuel-storage/cis/waste-control-specialist.html.

B. Submitting Comments

Please include Docket ID NRC-2016-0231 in your comment submission. Written comments may be submitted during the scoping period as described in the ADDRESSES section of the document.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In a letter dated April 28, 2016, WCS submitted an application to the NRC for a specific license, pursuant to part 72 of title 10 of the Code of Federal Regulations (10 CFR), “Licensing Requirements for the Independent Storage of Spent Nuclear Fuel, High-Level Radioactive Waste, and Reactor-Related Greater Than Class C Waste.” The WCS is seeking to construct and operate a consolidated interim storage facility (CISF) for spent nuclear fuel at WCS' facility in Andrews County, Texas. If approved and licensed by NRC, the CISF would store up to 5,000 metric tons uranium (MTU) for a 40-year license period. In its application, WCS has expressed its intent eventually to store up to 40,000 MTU in the CISF. The WCS site is located on Texas Highway 176 West, approximately 32 miles west of Andrews, Texas and 5 miles east of Eunice, New Mexico.

In a letter dated July 21, 2016, WCS also requested that the NRC initiate its environmental impact atatement (EIS) process for the WCS application as soon as practicable. The NRC informed WCS, in a letter dated October 7, 2016, that the NRC would begin its EIS process in advance of an NRC decision regarding the acceptance of the WCS application and noted that doing so would help fulfill the purposes of the NRC's National Environmental Policy Act (NEPA) review of the application. On November 14, 2016, the NRC published a notice in the Federal Register (81 FR 79531) announcing its intent to prepare an EIS and to open an EIS scoping period. A notice docketing the application and noticing an opportunity to request a hearing and petition to intervene is published in the Notices section of this issue of the Federal Register.

The purpose of this notice is to: (1) Identify March 13, 2017, as the closing date for the scoping period, and (2) provide the dates, times, and locations for public meetings wherein the NRC will accept oral comments as part of the scoping process for the EIS.

III. Environmental Review

The EIS prepared by the NRC will examine the potential environmental impacts of the proposed construction and operation of the CISF. The NRC will evaluate the potential impacts to various environmental resources, such as air quality, surface and ground water, transportation, geology and soils, and socioeconomics. The EIS will analyze potential impacts of WCS' proposed facility on historic and cultural resources and on threatened and endangered species. A cost benefit analysis also will be documented in the EIS.

In parallel with the environmental review, the NRC will be conducting a safety review to determine WCS' compliance with NRC's regulations, including 10 CFR part 20, “Standards for Protection Against Radiation” and 10 CFR part 72. NRC's findings will be published in a Safety Evaluation Report.

IV. CISF Construction and Operation

If the NRC approves WCS' request and issues a license, then WCS could proceed with the proposed project—the construction and operation of the CISF—as described in its Environmental Report and summarized in this document.

The NRC received an application from WCS proposing to construct a CISF on its approximately 60.3 square kilometer (14,900 acre) site in western Andrews County, Texas. On this site, WCS currently operates facilities that process and store certain types of radioactive material, mainly low-level waste and mixed waste (i.e., waste that is both hazardous waste and low-level waste). The facility also disposes of hazardous and toxic waste.

In its application, WCS plans to construct the CISF in eight phases. Phase one of the CISF would be designed to provide storage for up to 5,000 MTU received from commercial nuclear power reactors across the United States. The WCS proposes that small amounts of mixed oxide spent fuels and greater than Class C wastes also be stored at the CISF. The WCS stated that it would design each subsequent phase of the CISF to store up to an additional 5,000 MTU for a total of up to 40,000 MTU being stored at the site by the completion of the final phases. Each phase would require the NRC's review and approval.

The WCS would receive canisters containing spent nuclear fuel from the reactor sites, and once accepted at its site, WCS would transfer them into onsite dry cask storage systems. The WCS application stated that it would employ the dry cask storage system technology that has been licensed by the NRC pursuant to 10 CFR part 72, at various commercial nuclear reactors across the country. The dry cask storage systems proposed by WCS for use at the CISF would be passive systems (i.e., not relying on any moving parts) and would provide physical protection, containment, nuclear criticality controls and radiation shielding required for the safe storage of the spent nuclear fuel. The application also stated that the dry cask storage systems would be located on top of the concrete pads constructed at the CISF. The applicant is requesting a 40-year license term.

V. Alternatives To Be Evaluated

The EIS will analyze the environmental impacts of the proposed action, the no-action alternative, and reasonable alternatives. A brief description of each is provided below.

No-Action. The no-action alternative would be to deny the license application. Under this alternative, the NRC would not issue the license and WCS would not construct nor operate the CISF at its site in west Texas. Existing waste handling, storage, and disposal operations at the WCS site unrelated to storage of spent nuclear fuel would continue. This alternative serves as a baseline for the comparison of environmental impacts of the proposed action and the reasonable alternatives.

Proposed action. The proposed action is to issue a license to WCS authorizing the company to construct and operate the CISF. If the NRC approves the license application, it would issue WCS a specific license under the provisions of 10 CFR part 72, and WCS would proceed with the proposed activities as described in its license application and summarized in Section IV.

Alternatives. In its environmental report, WCS identified other potential alternatives involving an alternate CISF location and an alternate storage system design. Other alternatives not listed here may be identified during scoping or through the environmental review process.

VI. Scope of the Environmental Review

The NRC is conducting a scoping process for the WCS EIS. In accordance with 10 CFR 51.29, the NRC seeks public input to help the NRC determine the appropriate scope of the EIS, including the alternatives and significant environmental issues to be analyzed in depth, as well as those that should be eliminated from detailed study because they are peripheral or are not significant. In addition to accepting comments either electronically or by letter as described in the ADDRESSES section, the NRC has scheduled public scoping meetings to receive comments in person. The locations for these meetings are:

• February 13, 2017, at the Lea County Event Center, 5101 N. Lovington Highway, Hobbs, New Mexico 88240.

• February 15, 2017, at the James Roberts Center, 855 TX-176, Andrews, Texas 79714.

The two local public meetings will start at 7:00 p.m. local time and will continue until 10:00 p.m. Additionally, the NRC will host informal discussions during an open house 1 hour prior to the start of each meeting. Open houses will start at 6:00 p.m. local time for the local meetings.

Persons interested in attending or presenting oral comments at any of these public meetings are encouraged to pre-register. Persons may pre-register to attend or present oral comments by calling Antoinette Walker-Smith at 301-415-6957 no later than 3 days prior to the meeting. Members of the public may also register to provide oral comments in-person at each meeting. Individual oral comments may be limited by the time available, depending on the number of persons who register. If special equipment or accommodations are needed to attend or present information at a public meeting, the need should be brought to the NRC's attention no later than 10 days prior to the meeting to provide the NRC staff adequate notice to determine whether the request can be accommodated.

The NRC also is considering holding additional public scoping meetings at the NRC headquarters in Rockville, Maryland, in the week following the local meetings. Persons interested in attending the NRC's headquarters meetings should check the NRC's Public Meeting Schedule Web page at https://www.nrc.gov/pmns/mtg for the dates and times for these meetings.

After the close of the scoping period, the NRC will prepare a concise summary of its scoping process, the comments received, as well as the NRC's responses. The Scoping Summary Report will be included in the NRC's draft EIS as an appendix and sent to each participant in the scoping process for whom the staff has an address.

The WCS EIS will address the potential impacts from the construction and operation of the CISF. The anticipated scope of the EIS will consider both radiological and non-radiological (including chemical) impacts associated with the proposed project and its alternatives. The EIS will also consider unavoidable adverse environmental impacts, the relationship between short-term uses of resources and long-term productivity, and irreversible and irretrievable commitments of resources. The following resource areas have been tentatively identified for analysis in the WCS EIS: Land use, transportation, geology and soils, water resources, ecological resources, air quality and climate change, noise, historical and cultural resources, visual and scenic resources, socioeconomics, public and occupational health, waste management, environmental justice, and cumulative impacts. This list is not intended to be exhaustive, nor is it a predetermination of potential environmental impacts. The EIS will describe the NRC's approach and methodology undertaken to determine the resource areas that will be studied in detail and the NRC's evaluation of potential impacts to those resource areas.

The NRC encourages members of the public, local, State, Tribal, and Federal government agencies to participate in the scoping process. Written comments may be submitted during the scoping period as described in the ADDRESSES and SUPPLEMENTARY INFORMATION section of this document. Participation in the scoping process for the WCS EIS does not entitle participants to become parties to any proceeding to which the EIS relates.

In addition to requesting scoping comments through this Federal Register notice, the NRC also intends to reach out to interested stakeholders, including other Federal and State agencies and Indian Tribes. The NRC seeks to identify, among other things, all review and consultation requirements related to the proposed action, and agencies with jurisdiction by law or special expertise with respect to any environmental impact involved or which is authorized to develop and enforce relevant environmental standards. The NRC invites such agencies to participate in the scoping process and, as appropriate, cooperate in the preparation of the EIS.

The NRC will continue its environmental review of WCS' license application, and with its contractor, prepare a draft EIS and, as soon as practicable, publish it for public comment. The NRC plans to have a public comment period for the draft EIS. Availability of the draft EIS and the dates of the public comment period will be announced in a future Federal Register notice. The final EIS will include the NRC's responses to public comments received on the draft EIS.

VII. Availability of Documents

The documents identified in this Federal Register notice are accessible to interested persons by the means indicated in either the SUPPLEMENTARY INFORMATION section of this notice or in the table below.

Document | ADAMS accession No.
WCS's CISF license application, with Environmental Report | ML16133A070
NRC request for supplemental information | ML16175A277
WCS letter with schedule for response to NRC request for supplemental information | ML16193A314
WCS initial information submittal in response to NRC request for supplemental information | ML16229A537
WCS submittal of supplemental security information | ML16235A467
WCS request for NRC to begin EIS process as soon as practicable | ML16229A340
WCS second information submittal in response to NRC request for supplemental information | ML16265A454
WCS submittal of supplemental security information | ML16280A300
NRC response to WCS request to begin EIS process as soon as practicable | ML16285A317
WCS submittal of third information set to NRC request for supplemental information | ML16287A527
WCS fourth information submittal in response to NRC request for supplemental information | ML16330A116
WCS fifth information submittal in response to NRC request for supplemental information | ML16356A346
WCS sixth information submittal in response to NRC request for supplemental information | ML17018A292
NRC letter accepting application for review | ML17018A168

Dated at Rockville, Maryland, this 23rd day of January 2017.
For the U.S. Nuclear Regulatory Commission.
Brian W. Smith,
Deputy Director, Division of Fuel Cycle Safety, Safeguards, and Environmental Review, Office of Nuclear Material Safety and Safeguards.

[FR Doc. 2017-01966 Filed 1-27-17; 8:45 am]

BILLING CODE 7509-01-P